SECURITIES AND EXCHANGE COMMISSION

Sunshine Act Meetings

FEDERAL REGISTER CITATION OF PREVIOUS ANNOUNCEMENT: 90 FR 14669, April 3, 2025.

PREVIOUSLY ANNOUNCED TIME AND DATE OF THE MEETING: Friday, June 6, 2025, at 1:00 p.m.

CHANGES IN THE MEETING: The Crypto Task Force roundtable scheduled for Friday, June 6, 2025, at 1:00 p.m., has been changed to Monday, June 9, 2025, at 1:00 p.m.

CONTACT PERSON FOR MORE INFORMATION: For further information; please contact Vanessa A. Countryman from the Office of the Secretary at (202) 551-5400.

Authority: 5 U.S.C. 552b.

Dated: May 1, 2025.
Vanessa A. Countryman,
Secretary.

[FR Doc. 2025-07883 Filed 5-1-25; 4:15 pm]

BILLING CODE P